DEPARTMENT OF AGRICULTURE

Forest Service

Notice of Availability of the Record of Decision; and Approved Land Management Plan Amendments for the Rocky Mountain Region Greater Sage-Grouse Sub-Regions Northwest Colorado, and Wyoming

AGENCY: Forest Service, USDA.

ACTION: Notice of availability of the Record of Decision.

SUMMARY: The Forest Service announces the availability of the Record of Decision (ROD) and Approved Land Management Plan (LMP) Amendments for the Rocky Mountain Region Greater Sage-Grouse (GRSG) sub-regions of Northwest Colorado and Wyoming. The Intermountain and Rocky Mountain Regional Foresters signed the ROD on September 16, 2015, which constitutes the final decision of the Forest Service.

ADDRESSES: Copies of the ROD and LMP Amendments are available upon request and are also available for public inspection at the addresses listed in the SUPPLEMENTARY INFORMATION section. Interested persons may also review the ROD and Approved LMP amendments and on the World Wide Web at: http://www.fs.usda.gov/r4/.

FOR FURTHER INFORMATION CONTACT: For the Northwest Colorado GRSG LMP Amendment contact Dennis Jaeger, Routt National Forest Supervisor, telephone 307-745-2400; address Routt National Forest 2468 Jackson Street, Laramie, WY 82070; email: djaeger01@fs.fed.us.

For the Wyoming GRSG LMP amendment contact Pam Bode, Wyoming State Liaison, telephone 307-352-0259; address Bridger-Teton National Forest, 340 North Cache, Jackson, Wyoming 83001; email: pbode@fs.fed.us.

Individuals who use telecommunication devices for the deaf (TDD) may call the Federal Information Relay Service (FIRS) at 1-800-877-8339 between 8 a.m. and 8 p.m., Eastern Standard Time, Monday through Friday.

SUPPLEMENTARY INFORMATION: This Record of Decision (ROD) and Approved Land Management Plan (LMP) Amendments for the Rocky Mountain Region Greater Sage-Grouse (GRSG) sub-regions of Northwest Colorado and Wyoming were developed through a collaborative planning process and incorporate land-use plan level conservation measures into existing Forest Service LMPs to conserve, enhance, and restore GRSG and its habitat by reducing, eliminating, or minimizing threats to GRSG and its habitat. The ROD and Approved LMP Amendments include management direction that limits or eliminates new surface disturbance in GRSG Priority Habitat Management Areas, while minimizing disturbance in GRSG General Habitat Management Areas. In addition to establishing protective management direction, the Approved LMP Amendments establish a suite of management provisions, such as the establishment of disturbance limits, GRSG habitat objectives, mitigation requirements, monitoring protocols, and adaptive management triggers and responses, as well as other conservation measures throughout the range. The cumulative effect of these conservation measures is to protect, improve, and restore GRSG habitat across the remaining range of the species in the Rocky Mountain Region and provide greater certainty that Forest Service activities and authorizations in GRSG habitat will lead to conservation of GRSG and its habitat as well as other sagebrush-steppe associated species in the Region.

The ROD and Approved LMP Amendments amend the following Forest Service LMPs:

Sub-region | National Forest System unit | Date of current LMP
NW Colorado | Routt National Forest | 1998
Wyoming | Thunder Basin National Grassland | 2002
| Bridger-Teton National Forest | 1990
| Medicine Bow National Forest | 2003

The Northwest Colorado and Wyoming Draft Land Use Plan Amendments (LUPAs)/Draft Environmental Impact Statements (EISs) and Proposed LUPAs/Final EISs also included proposed GRSG management direction on Bureau of Land Management (BLM) public lands. However, the BLM completed a separate ROD and Resource Management Plan Amendments/Revisions under BLM planning authorities. Management decisions within the Forest Service ROD and Approved LMP Amendments apply only to National Forest System lands. Notice of Availability for the Rocky Mountain Region GRSG Proposed LUPs/Final EISs were published in the Federal Register on May 29, 2015, which initiated a 30-day protest period.

The BLM and Forest Service received 55 timely and valid protest submissions for all Rocky Mountain region Proposed LUPAs/Final EISs. After careful consideration of the all issues raised in these protests, the Deputy Chief for the National Forest System concluded that the responsible planning team followed all applicable laws, regulations, and policies and considered all relevant resource information and public input in developing the Proposed LUPs/Final EISs. For a full description of the issues raised during the protest period and how they were addressed, please refer to the Protest Resolution Reports for the Northwest Colorado and Wyoming Proposed LUPAs/Final EISs. These Reports, which include two Forest Service Proposed LMP amendments for Northwest Colorado and Wyoming, are available at the following Web site: http://www.blm.gov/wo/st/en/prog/planning/planning_overview/protest_resolution/protestreports.html.

The preferred alternatives, as presented in the Draft LUP Amendments/EISs and further developed in the Proposed LUP Amendments/Final EISs as the Proposed Plan Amendments, were selected in the ROD as the Approved LMP Amendments with some minor clarifications.

Copies of the Northwest Colorado GRSG ROD and Approved LMP Amendment are available upon request and are available for public inspection at:

• Routt National Forest Headquarters, 2468 Jackson Street, Laramie, WY, 82070

Copies of the Wyoming GRSG ROD and Approved LMP Amendment are available upon request and are available for public inspection at:

• Medicine Bow National Forest-Thunder Basin National Grassland Headquarters

• Bridger-Teton National Forest Headquarters, 340 North Cache, Jackson, WY 83001

Dated: September 17, 2015.
Glenn P. Casamassa,
Associate Deputy Chief, National Forest System.

[FR Doc. 2015-24168 Filed 9-22-15; 8:45 am]

BILLING CODE 3411-15-P